DEPARTMENT OF TRANSPORTATION

Coast Guard

33 CFR Part 165

[CGD09-01-090]

Safety Zone: Captain of the Port Detroit Zone

AGENCY: Coast Guard, DOT.

ACTION: Notice of implementation.

SUMMARY: The Coast Guard is implementing safety zones for annual fireworks displays in the Captain of the Port Detroit Zone during August 2001. This action is necessary to provide for the safety of life and property on navigable waters during these events. These zones will restrict vessel traffic from a portion of the Captain of the Port Detroit Zone.

DATES: 33 CFR 165.907 (a)(22) and (a)(23) will be implemented from 9 p.m. through 11:59 p.m. (EST) on August 11, 2001.

FOR FURTHER INFORMATION CONTACT: Ensign Brandon Sullivan, U.S. Coast Guard Marine Safety Office Detroit, (313) 568-9580.

SUPPLEMENTARY INFORMATION: The Coast Guard is implementing two permanent safety zones in 33 CFR 165.907 (published May 21, 2001, in the Federal Register, 66 FR 27868), for fireworks displays in the Captain of the Port Detroit Zone during August 2001. The following safety zones are in effect for fireworks displays occurring in the month of August 2001:

(1) Maritime Day Fireworks, Marine City, MI. Location: All waters of the St. Clair River within a 300-yard radius of the fireworks barge in approximate position 42°43′ N, 082°29′ W, about 500 yards east of Marine City, St. Clair River on August 11, 2001 from 9 p.m. to 11:59 p.m.

(2) Venetian Festival Boat Parade & Fireworks, St. Clair Shores, MI. Location: All waters of Lake St. Clair within a 300-yard radius of the fireworks barge in approximate position 42°28′N, 082°52′ W, about 600 yards off Jefferson Beach Marina, Lake St. Clair on August 11, 2001 from 9 p.m. to 11:59 p.m. In order to ensure the safety of spectators and transiting vessels, this safety zone will be in effect for the duration of the event. Vessels may not enter the safety zone without permission from Captain of the Port Detroit Zone. If you would like permission, contact the person listed in FOR FURTHER INFORMATION CONTACT. Spectator vessels may anchor outside the safety zone but are cautioned not to block a navigable channel.

Dated: July 10, 2001.
B.P. Hall,
Lieutenant Commander, U.S. Coast Guard, Acting Captain of the Port Detroit.

[FR Doc. 01-17998 Filed 7-18-01; 8:45 am]

BILLING CODE 4910-15-U